DEPARTMENT OF HOMELAND SECURITY

Coast Guard

33 CFR Part 117

[Docket No. USCG-2012-0487]

Drawbridge Operation Regulation; Lake Washington Ship Canal, Seattle, WA

AGENCY: Coast Guard, DHS.

ACTION: Notice of temporary deviation from regulations.

SUMMARY: The Coast Guard has issued a temporary deviation from the operating schedule that governs the Montlake Bridge across the Lake Washington Ship Canal, mile 5.2, at Seattle, WA. This deviation is necessary to accommodate maintenance to the metro trolley system which crosses the bridge.

DATES: This deviation is effective from 10 p.m. on June 16, 2012 through 8 a.m. June 24, 2012.

ADDRESSES: Documents mentioned in this preamble as being available in the docket are part of docket USCG-2012-0487 and are available online by going to http://www.regulations.gov, inserting USCG-2012-0487 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email the Bridge Administrator, Coast Guard Thirteenth District; telephone 206-220-7282, email randall.d.overton@uscg.mil. If you have questions on viewing the docket, call Renee V. Wright, Program Manager, Docket Operations, telephone 202-366-9826.

SUPPLEMENTARY INFORMATION: The Washington State Department of Transportation (WSDOT) has requested that the Montlake Bridge temporarily remain in the down or closed position to facilitate maintenance of the King County Metro Trolley system. The scheduled maintenance will take place on two separate nights in June 2012. The first maintenance period will be the night of June 16, 2012 starting at 10 p.m. lasting until 8 a.m. June 17, 2012. The second maintenance period will be June 23, 2012 starting at 10 p.m. lasting until 8 a.m. June 24, 2012. During these maintenance periods WSDOT has requested that the Montlake Bridge remain in the closed position. King County Metro Transit will be replacing the electrical cables and installing new electrical switches for the Metro Trolley system. King County will have electrical equipment and associated maintenance vehicles staged on the Montlake Bridge during these maintenance periods. The Montlake Bridge crosses the Lake Washington Ship Canal at mile 5.2 and while in the closed position provides 30 feet of vertical clearance throughout the navigation channel and 46 feet of vertical clearance throughout the center 60-feet of the bridge; vertical clearance referenced to the Mean Water Level of Lake Washington. Vessels which do not require a bridge opening may continue to transit beneath the bridge during these closure periods. Under normal conditions this bridge operates in accordance with 33 CFR 117.1051(e) which requires the bridge to open on signal, except that the bridge need not open for vessels less than 1,000 gross tons between 7 a.m. and 9 a.m. and 3:30 p.m. and 6:30 p.m. Monday through Friday. This deviation period is from 10 p.m. June 16, 2012 through 8 a.m. June 24, 2012. This deviation allows the bascule span of the Montlake Bridge to remain in the closed position and need not open for maritime traffic from 10 p.m. on June 16, 2012 until 8 a.m. on June 17, 2012, and also from 10 p.m. on June 23, 2012 until 8 a.m. June 24, 2012. The bridge shall operate in accordance to 33 CFR 117.1051(e) at all other times. Waterway usage on the Lake Washington Ship Canal ranges from commercial tug and barge to small pleasure craft. Mariners will be notified and kept informed of the bridge's operational status via the Coast Guard Notice to Mariners publication and Broadcast Notice to Mariners as appropriate. The draw span will be required to open, if needed, for vessels engaged in emergency response operations during the closure periods.

In accordance with 33 CFR 117.35(e), the drawbridge must return to its regular operating schedule immediately at the end of the designated time period. This deviation from the operating regulations is authorized under 33 CFR 117.35.

Dated: May 24, 2012.
Randall D. Overton,
Bridge Administrator.

[FR Doc. 2012-13741 Filed 6-5-12; 8:45 am]

BILLING CODE 9110-04-P